UNIFIED CARRIER REGISTRATION PLAN

Sunshine Act Meeting

TIME AND DATE: August 8, 2022, 11:00 a.m. to 1:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 979 8108 2545, to listen and participate in this meeting. The website to participate via Zoom Meeting and Screenshare is https://kellen.zoom.us/meeting/register/tJMkf-iopjkvHtGOJrP4ApjM8gz7AhNEux2d.

STATUS: This meeting will be open to the public.

MATTERS TO BE CONSIDERED: The Unified Carrier Registration Plan Industry Advisory Subcommittee (the “Subcommittee”) will conduct a meeting to continue its work in developing and implementing the Unified Carrier Registration Plan and Agreement. The subject matter of this meeting will include:

Agenda

I. Call to Order—UCR Industry Advisory Subcommittee Chair

The Industry Advisory Subcommittee Chair will welcome attendees, call the meeting to order, call roll for the Industry Advisory Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda—UCR Industry Advisory Subcommittee Chair

For Discussion and Possible Board Action

The proposed Agenda will be reviewed, and the Subcommittee will consider adoption.

Ground Rules

➢ Subcommittee action only to be taken in designated areas on agenda.

IV. Review and Approval of Minutes From the May 19, 2022 Meeting—UCR Industry Advisory Subcommittee Chair

For Discussion and Possible Subcommittee Action

Draft minutes from the May 19, 2022 Industry Advisory Subcommittee meeting via teleconference will be reviewed. The UCR Industry Advisory Subcommittee will consider action to approve.

V. Review of the Full UCR Board Agenda—UCR Industry Advisory Subcommittee Chair

For Discussion and Possible Subcommittee Action

The UCR Industry Advisory Subcommittee Chair will discuss the full UCR Board agenda for the Board's August 11, 2022 Board meeting. The Subcommittee may take action to recommend or oppose to the UCR Board any action items listed on that Board agenda.

VI. Truck Parking Initiative—UCR Industry Advisory Subcommittee Chair

For Discussion and Possible Subcommittee Action

The UCR Industry Advisory Subcommittee Chair will discuss the truck parking initiative with Subcommittee. The Subcommittee may take action to recommend to the UCR Board that the Board authorize the UCR Board Chair to draft, sign, and send a letter to Congress recommending approval of such legislation.

VII. Compliance With Bracket 1 Fees—Tamara Young, Member, Industry Advisory Subcommittee

Tamara Young will lead a general discussion on the issue of compliance for entities required to pay UCR Bracket 1 fees.

VIII. Discussion on New Roles on Subcommittees—UCR Industry Advisory Subcommittee Chair

The UCR Industry Advisory Subcommittee Chair will discuss the new roles with Subcommittee.

IX. Other Items—UCR Industry Advisory Subcommittee Chair

The UCR Industry Advisory Subcommittee Chair will call for any other business, old or new, that Subcommittee members would like to discuss.

X. Adjournment—UCR Industry Advisory Subcommittee Chair

The UCR Industry Advisory Subcommittee Chair will adjourn the meeting.

The agenda will be available no later than 5:00 p.m. Eastern time, July 29, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-16714 Filed 8-1-22; 4:15 pm]

BILLING CODE 4910-YL-P